DEPARTMENT OF ENERGY

Federal Energy Regulatory Commission

Notice of Effectiveness of Exempt Wholesale Generator Status

| Docket Nos.
Flickertail Wind, LLC | EG25-310-000
Bexar ESS LLC | EG25-311-000
Coldwater River Solar, LLC | EG25-312-000
Badger Wind, LLC | EG25-313-000
St. Gall Energy Storage II LLC | EG25-314-000
Tidwell Prairie IA LLC | EG25-315-000
West Camp Wind Farm, LLC | EG25-316-000
Petersburg Energy Center, LLC | EG25-317-000
FL Solar 8, LLC | EG25-318-000
American Beech Solar LLC | EG25-319-000
Prairie Solar 1, LLC | EG25-320-000
Sebree Solar II, LLC | EG25-321-000
Hubbard Wind II, LLC | EG25-322-000
Wilmot Energy Center II, LLC | EG25-323-000
Apple River Solar, LLC | EG25-324-000
Jackson County Solar, LLC | EG25-325-000
Portage Solar, LLC | EG25-326-000
Sycamore Creek Solar, LLC | EG25-327-000
Rumble Energy Storage, LLC | EG25-328-000
Atlas VII, LLC | EG25-330-000
Atlas IX, LLC | EG25-331-000
Dodge County Wind, LLC | EG25-332-000
Cartwheel BESS, LLC | EG25-333-000
Crowned Heron, LLC | EG25-334-000
Crowned Heron 2, LLC | EG25-335-000
Choctaw Fields Solar Project, LLC | EG25-336-000
Magnolia Power LLC | EG25-337-000
Arche Energy Project Tenant, LLC | EG25-338-000
Hecate Energy Outpost Solar LLC | EG25-339-000
Prospect Power, LLC | EG25-340-000
Waterloo Solar I, LLC | EG25-341-000

Take notice that during the month of July 2025, the status of the above-captioned entities as Exempt Wholesale Generators became effective by operation of the Commission's regulations. 18 CFR 366.7(a) (2024).

Dated: August 6, 2025.
Debbie-Anne A. Reese,
Secretary.

[FR Doc. 2025-15224 Filed 8-8-25; 8:45 am]

BILLING CODE 6717-01-P